DEPARTMENT OF ENERGY

Federal Energy Regulatory Commission

[Docket No. CP05-55-000]

Northern Natural Gas Company; Notice of Application

February 1, 2005.

Take notice that on January 25, 2005, Northern Natural Gas Company (Northern), 1111 South 103rd Street, Omaha, Nebraska 68124, filed in Docket No. CP05-55-000 an application pursuant to section 7 of the Natural Gas Act (NGA) for authorization to construct, own and operate two additional withdrawal storage wells, associated wellhead measurement facilities, pipeline facilities, and a compressor unit, with appurtenances at Northern's Cunningham Storage Field, located in Pratt and Kingman Counties, Kansas, all as more fully set forth in the application.

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. Any questions concerning this request may be directed to Michael Loeffler, Director of Certificates for Northern, 1111 South 103rd Street, Omaha, Nebraska 68124, or call (402 398-7103 or Bret Fritch, Senior Regulatory Analyst, at (402) 398-7140.

Northern states that the construction and operation of the proposed facilities would enable Northern to control and recapture storage gas that is moving away from the storage field. Northern states further that the new wells would have the capability of withdrawing gas even when the storage field is not in service. Northern notes that by utilizing the new compressor, Northern would be able to withdraw from the new withdrawal wells independently of the main storage field. Northern contends that this would allow Northern to be more effective in controlling the migration gas.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. However, the non-party commenters will not receive copies of all documents filed by other parties or issued by the Commission (except for the mailing of environmental documents issued by the Commission) and will not have the right to seek court review of the Commission's final order.

Comments, protests and interventions may be filed electronically via the Internet in lieu of paper. See 18 CFR 385.2001 (a)(1)(iii) and the instructions on the Commission's Web site under the “e-filing” link. The Commission strongly encourages electronic filings.

If the Commission decides to set the application for a formal hearing before an Administrative Law Judge, the Commission will issue another notice describing that process. At the end of the Commission's review process, a final Commission order approving or denying a certificate will be issued.

Comment Date: February 22, 2005.

Magalie R. Salas,
Secretary.

[FR Doc. E5-500 Filed 2-7-05; 8:45 am]

BILLING CODE 6717-01-P